DEPARTMENT OF HOMELAND SECURITY

Federal Emergency Management Agency

Fee Schedule for Processing Requests for Map Changes, for Flood Insurance Study Backup Data, and for National Flood Insurance Program Map and Insurance Products

AGENCY: Federal Emergency Management Agency (FEMA) Emergency Preparedness and Response Directorate, Department of Homeland Security.

ACTION: Notice.

SUMMARY: This notice contains the revised fee schedules for processing certain types of requests for changes to National Flood Insurance Program (NFIP) maps, for processing requests for Flood Insurance Study (FIS) technical and administrative support data, and for processing requests for particular NFIP map and insurance products. The changes in the fee schedules will allow FEMA to further reduce the expenses to the NFIP by recovering more fully the costs associated with processing conditional and final map change requests; retrieving, reproducing, and distributing technical and administrative support data related to FIS analyses and mapping; and producing, retrieving, and distributing particular NFIP map and insurance products.

DATES: The revised fee schedules are effective for all requests dated October 30, 2005, or later.

FOR FURTHER INFORMATION CONTACT: Doug Bellomo, P.E., Hazard Identification Section, Emergency Preparedness and Response Directorate, FEMA, 500 C Street SW., Washington, DC 20472; by telephone at (202) 646-2903 or by facsimile at (202) 646-4596 (not toll-free); or by e-mail at doug.bellomo@dhs.gov.

SUPPLEMENTARY INFORMATION: This notice contains the revised fee schedules for processing certain types of requests for changes to NFIP maps, requests for FIS technical and administrative support data, and requests for particular NFIP map and insurance products.

Effective Dates. The revised fee schedule for map changes is effective for all requests dated October 30, 2005, or later. The revised fee schedule supersedes the current fee schedule, which was established on September 1, 2002.

The revised fee schedule for requests for FIS backup data also is effective for all requests dated October 30, 2005, or later. The revised fee schedule supersedes the current fee schedule, which was established on September 1, 2002.

The revised fee schedule for requests for particular NFIP map and insurance products, which are available through the FEMA Map Service Center (MSC) is effective for all written requests, on-line Internet requests made through the FEMA Flood Map Store, and all telephone requests received on or after October 30, 2005. The revised fee schedule supersedes the current fee schedule, which was established on August 1, 2003.

Evaluations Performed. To develop the revised fee schedule for conditional and final map change requests, FEMA evaluated the actual costs of reviewing and processing requests for Conditional Letters of Map Amendment (CLOMAs), Conditional Letters of Map Revision Based on Fill (CLOMR-Fs), Conditional Letters of Map Revision (CLOMRs), Letters of Map Revision Based on Fill (LOMR-Fs), Letters of Map Revision (LOMRs), and Physical Map Revisions (PMRs).

To develop the revised fee schedule requests for FIS technical and administrative support data, FEMA evaluated the actual costs of reviewing, reproducing, and distributing archived data in seven categories. These categories are discussed in more detail below.

To develop the revised fee schedule for requests for particular NFIP map and insurance products, FEMA: (1) Evaluated the actual costs incurred at the MSC for producing, retrieving, and distributing those products; (2) analyzed historical sales, cost data, and product unit cost for unusual trends or anomalies; and (3) analyzed the effect of program changes, new products, technology investments, and other factors on future sales and product costs. The products covered by this notice are discussed in detail below.

Periodic Evaluations of Fees. A primary component of the fees is the prevailing private-sector rates charged to FEMA for labor and materials. Because these rates and the actual review and processing costs may vary from year to year, FEMA will evaluate the fees periodically and publish revised fee schedules, when needed, as notices in the Federal Register.

Fee Schedule for Requests for Conditional Letters of Map Amendment and Conditional and Final Letters of Map Revision Based on Fill

Based on a review of actual cost data for Fiscal Year 2004 and portion of Fiscal Year 2005, FEMA established the following review and processing fees, which are to be submitted with all requests:

Request for single-lot/single-structure CLOMA and CLOMR-F: $500.

Request for single-lot/single-structure LOMR-F: $425.

Request for single-lot/single-structure LOMR-F based on as-built information CLOMR-F previously issued by FEMA): $325.

Request for multiple-lot/multiple-structure CLOMA: $700.

Request for multiple-lot/multiple-structure CLOMR-F and LOMR-F: $800.

Request for multiple-lot/multiple-structure LOMR-F based on as-built information (CLOMR-F previously issued by FEMA): $700.

Fee Schedule for Requests for Conditional Map Revisions

Based on a review of actual cost data for Fiscal Year 2004 and portion of Fiscal Year 2005, FEMA established the following review and processing fees, which are to be submitted with all (CLOMR) requests that are not otherwise exempted under 44 CFR 72.5:

Request based on new hydrology, bridge, culvert, channel, or combination thereof: $4,400.

Request based on levee, berm, or other structural measure: $5,000.

Fee Schedule for Requests for Map Revisions

Based on a review of actual cost data for Fiscal Year 2004 and portion of Fiscal Year 2005, FEMA established the following review and processing fees, which are to be submitted with all requests that are not otherwise exempted under 44 CFR 72.5, requesters must submit the review and processing fees shown below with requests for LOMRs and PMRs dated October 30, 2005, or later that are not based on structural measures on alluvial fans.

Request based on bridge, culvert, channel, hydrology, or combination thereof: $4,400.

Request based on levee, berm, or other structural measure: $6,000.

Request based on as-built information submitted as followup to CLOMR: $4,000.

Fees for Conditional and Final Map Revisions Based on Structural Measures on Alluvial Fans

Based on a review of actual cost data for Fiscal Year 2004 and portion of Fiscal Year 2005, FEMA has revised the initial review and processing fee for requests for PMRs, LOMRs and CLOMRs based on structural measures on alluvial fans, from $5,000 to $5,600. FEMA also will continue to recover the remainder of the review and processing costs by invoicing the requester before issuing a determination letter, consistent with current practice. The prevailing private-sector labor rate charged to FEMA ($50 per hour) has been revised to $60 per hour and will continue to be used to calculate the total reimbursable fees.

Fee Schedule for Requests for Flood Insurance Study Backup Data

Non-exempt requesters of FIS technical and administrative support data must submit fees shown below with requests dated October 30, 2005, or later. These fees are based on the complete recovery costs to FEMA for retrieving, reproducing, and distributing the data, as well as maintaining the library archives, and for collecting and depositing fees. Based on a review of actual cost data for Fiscal Year 2004 and portion of Fiscal Year 2005, FEMA has revised the initial non-refundable fee for Categories 1, 2, and 3 from $120 to $135 and Category 6 to include digital Letter of Map Revision (LOMR) attachment files.

All entities except the following will be charged for requests for FIS technical and administrative support data:

• Private architectural-engineering firms under contract to FEMA to perform or evaluate studies and restudies;

• Federal agencies involved in performing studies and restudies for FEMA (i.e., U.S. Army Corps of Engineers, U.S. Geological Survey, Natural Resources Conservation Service, and Tennessee Valley Authority);

• Communities that have supplied the Digital Line Graph base to FEMA and request the Digital Line Graph data (Category 6 below);

• Communities that request data during the statutory 90-day appeal period for an initial or revised FIS for that community;

• Mapped participating communities that request data at any time other than during the statutory 90-day appeal period, provided the data are requested for use by the community and not a third-party user; and

• State NFIP Coordinators, provided the data requested are for use by the State NFIP Coordinators and not a third-party user.

FEMA has established seven categories into which requests for FIS backup data are separated. These categories are:

(1) Category 1—Paper copies, microfiche, or diskettes of hydrologic and hydraulic backup data for current or historical FISs;

(2) Category 2—Paper or mylar copies of topographic mapping developed during FIS process;

(3) Category 3—Paper copies or microfiche of survey notes developed during FIS process;

(4) Category 4—Paper copies of individual Letters of Map Change (LOMCs);

(5) Category 5—Paper copies of Preliminary Flood Insurance Rate Map or Flood Boundary and Floodway Map panels;

(6) Category 6—Computer tapes or CD-ROMs of Digital Line Graph files, Digital Flood Insurance Rate Map files, or Digital LOMR attachment files; and

(7) Category 7—Computer diskettes and user's manuals for FEMA computer programs.

FEMA established the initial non-refundable fee for non-exempt requesters of FIS technical and administrative support data pay a non-refundable fee of $135 to initiate their request under Categories 1, 2, and 3 above. This fee covers the preliminary costs of research and retrieval. If the data requested are available and the request is not cancelled, the final fee due is calculated as a sum of standard per-product charge plus a per-case surcharge of $93, designed to recover the cost of library maintenance and archiving. The total costs of processing requests in Categories 1, 2, and 3 will vary based on the complexity of the research involved in retrieving the data and the volume and medium of data to be reproduced and distributed. The initial fee will be applied against the total costs to process the request, and FEMA will invoice the requester for the balance plus the per-case surcharge before the data are provided. No data will be provided to a requester until all required fees have been paid.

No initial fee is required to initiate a request for data under Categories 4 through 7. Requesters will be notified by telephone about the availability of the data and the fees associated with requested data.

As with requests for data under Categories 1, 2, and 3, no data will be provided to requesters until all required fees are paid. A flat user fee for each of these categories of requests, shown below, will continue to be required.

Request Under Category 4 (First Letter): $40.

Request Under Category 4 (Each additional letter): $10.

Request Under Category 5 (First panel): $35.

Request Under Category 5 (Each additional panel): $2.

Request Under Category 6 (per county/digital LOMR attachment shapefiles): $150.

Request Under Category 7 (per copy): $25.

Fee Schedule for Requests for Map and Insurance Products

The MSC distributes a variety of NFIP map and insurance products to a broad range of customers, including Federal, State, and local government officials; real estate professionals; insurance providers; appraisers; builders; land developers; design engineers; surveyors; lenders; homeowners; and other private citizens. The MSC distributes the following products:

• Paper (printed) copies of Conversion Letters;

• Paper (printed) copies of Flood Hazard Boundary Maps (FHBMs);

• Paper (printed) copies of Flood Insurance Rate Maps (FIRMs);

• Paper (printed) copies of Digital Flood Insurance Rate Maps (DFIRMs);

• Printed copies of Flood Insurance Studies (FISs), including the narrative report, tables, Flood Profiles, and other graphics;

• Paper (printed) copies of Flood Boundary and Floodway Maps (FBFMs), when they are included as an exhibit in the FIS;

• Digital Q3 Flood Data files, which FEMA developed by scanning the published FIRM and vectorizing a thematic overlay of flood risks;

• Digital Q3 Flood Data files for Coastal Barrier Resource Areas (CBRA Q3 Flood Data files);

• Community Status Book, which is a report generated by FEMA's Community Information System database that provides pertinent map status information for all identified communities;

• Flood Map Status Information Service (FMSIS), through which FEMA provides status information for effective NFIP maps;

• Letter of Map Change (LOMC) Subscription Service, through which FEMA makes certain types of LOMCs available biweekly on CD-ROM;

• Paper (printed) and CD copies of NFIP Insurance Manual (Full Manual), which provides vital NFIP information for insurance agents nationwide;

• Paper (printed) copies of NFIP Insurance Manual (Producer's Edition), which is used for reference and training purposes;

• Community Map Action List (CMAL), which is a semimonthly list of communities and their NFIP status codes;

• Digital copies of Conversion Letters, downloadable from the Web;

• Digital copies of Flood maps, available on CD-ROM and downloadable from the Web; which can be purchased by panel or in community, county or state kits;

• Digital copies of FISs and FBFMs (where applicable), including the narrative report, tables, Flood Profiles, and other graphics, on CD-ROM and downloadable from the Web;

• DFIRM Database (DB), with and without orthographic photos, on CD-ROM and downloadable from the Web;

• FIRMette, a user-defined “cut-out” section of a flood map at 100% map scale designed for printing on a standard office printer;

• F-MIT Basic Version 1.0, which is a view tool map images, on CD-ROM and downloadable from the Web;

• DFIRM CD Viewer (formerly F-MIT Pro), which is a view tool map images, on CD-ROM;

• FEMA's Guidelines and Specifications for Flood Hazard Mapping Partners on CD-ROM; and

• MHIP—Multi-Hazard Implementation Plan on CD-ROM.

For more information on the map and insurance products available from the MSC, interested parties are invited to visit the MSC Web site at http://store.msc.fema.gov.

Based on a review of actual cost data and future trends, FEMA has revised the fee schedule for the map and insurance products that are available from the MSC. For requests for paper copies of conversion letters, FHBMs, FIRMs, DFIRMs, FBFMs, and FISs, FEMA has increased both the processing fee and the shipping cost; for digital copies of FHBMs, FIRMs, DFIRMs, FBFMs, and FISs on CD-ROM, FEMA has increased the processing fee and decreased the shipping cost; for digital copies of conversion letters, FHBMs, FIRMs, DFIRMs, FBFMs, and FISs downloadable from the web, FEMA has increased the processing fee; for DFIRM DBs(with and without orthographic photos), Q3 Flood Data Files, CBRA Flood Data Files, FMSIS, LOMC Subscription Service, FEMA's Guidelines and Specifications for Flood Hazard Mapping Partners, MHIP, DFIRM CD Viewer, Community Status Book, FEMA has changed the shipping cost on the first four CDs but increased the cost of the additional CDs. Federal, State, and local governments continue to be exempt from paying fees for the map products. The revised fee schedule for the current and new products are shown in the table below.

Product | Current fee | Shipping
Paper:
Letters | $3.00 per letter | $.037 per panel for first 10 plus $0.04 letter for each additional panel.
Maps | $3.00 per panel | $.037 per panel for first 10 plus $0.04 for each additional panel.
Floodways (as part of studies) | $3.00 per panel | $.037 per panel for first 10 plus $0.04 for each additional panel.
Studies | $6.00 per study | $4.50 per study plus $.45 for each additional study.
Hurry Charge (added to regular charge) | $33.00 | N/A.
Internet Products:
FIRMettes | Free | N/A.
Letters | $2.50 per letter | N/A.
Downloadable Maps | $2.50 per panel | N/A.
Downloadable Floodways | $2.50 per panel | N/A.
Downloadable Studies | $5.00 per study | N/A.
DFIRM Database (DB) | $10.00 per DB | N/A.
CD ROM:
CD Maps | $3.00 per panel | $1.50 for first 4 CDs and $0.25 for each additional CD.
CD Floodways | $3.00 per panel | $1.50 for first 4 CDs and $0.25 for each additional CD.
CD Studies | $6.00 per study | $1.50 for first 4 CDs and $0.25 for each additional CD.
DFIRM DB | $10.00 per database | $1.50 for first 4 CDs and $0.25 for each additional CD.
DFIRM w/Orthos | $10.00 per database | $1.50 for first 4 CDs and $0.25 for each additional CD.
Q3 on CD | $50.00 per CD-ROM | $1.50 for first 4 CDs and $0.25 for each additional CD.
CBRA Q3 on CD | $50.00 per CD-ROM or $200 for all 5 Q3 CDs | $1.50 for first 4 CDs and $0.25 for each additional CD.
FMSIS (Individual Orders) | $13.00 per State or $38.00 for entire USA | $1.50 for first 4 CDs and $0.25 for each additional CD.
FMSIS (Annual Subscription) | $148.00 per state or $419.00 for entire USA | N/A.
LOMC Subscription Service (Individual Orders) | $85.00 per issue | $1.50 for first 4 CDs and $0.25 for each additional CD.
LOMC Subscription Service (Annual Subscriptions) | $2,000 per year | N/A.
FEMA's Guidelines and Specifications for Flood Hazard Mapping Partners on CD | $2.60 | $1.50 for first 4 CDs and $0.25 for each additional CD.
MHIP—Multi-Hazard Implementation Plan | $2.60 | $1.50 for first 4 CDs and $0.25 for each additional CD.
View Tool:
F-MIT Light on Web | Free | N/A.
F-MIT Light on CD | Free | N/A.
DFIRM CD Viewer (formerly F-MIT Pro) | $30.00 per Viewer | $1.50 for first 4 CDs and $0.25 for each additional CD.
Manuals:
NFIP Insurance Manual (Full Manual) | $25.00 per subscription for two years | N/A.
NFIP Insurance Manual (Producer's Edition) | $15.00 per subscription for two years | N/A.
NFIP Insurance Manual (Full Manual) on CD | $25.00 per subscription for two years | N/A.
Other:
Community Status Book (CSB)—Individual Orders | $2.50 per State or $20.50 for entire USA | $1.10 per State or $5.00 for the entire USA.
Community Status Book (CSB)—Annual Subscription | $50.00 per State or $250.00 for entire USA | $1.10 per State or $5.00 for the entire USA.
Community Map Action List (CMAL) | Free | N/A.

Payment Submission Requirements

Fee payments for non-exempt requests must be made in advance of services being rendered. These payments shall be made in the form of a check, money order, or by credit card payment. Checks and money orders must be made payable, in U.S. funds, to the National Flood Insurance Program.

FEMA will deposit all fees collected to the National Flood Insurance Fund, which is the source of funding for providing these services.

Dated: September 7, 2005.
David I. Maurstad,
Acting Director, Mitigation Division, Emergency Preparedness and Response Directorate.

[FR Doc. 05-18555 Filed 9-16-05; 8:45 am]

BILLING CODE 9110-12-P